ADMINISTRATIVE COMMITTEE OF THE FEDERAL REGISTER

1 CFR Part 12

Official Subscriptions to the Print Edition of the Federal Register

AGENCY: Administrative Committee of the Federal Register.

ACTION: Notice of proposed rulemaking.

SUMMARY: The Administrative Committee of the Federal Register proposes to update its regulations for official requests for specific issues or subscriptions to the print edition of the Federal Register as required by the Federal Register Printing Savings Act of 2017.

DATES: Comments are due January 29, 2021.

ADDRESSES: Docket materials are available for review at the Office of the Federal Register, 7 G Street NW, Suite A-734, Washington, DC 20401, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Katerina Horska, Director of Legal Affairs and Policy, or Miriam Vincent, Staff Attorney, Office of the Federal Register, at Fedreg.legal@nara.gov, or 202-741-6030.

SUPPLEMENTARY INFORMATION:

Background and Purpose

Under the Federal Register Act (44 U.S.C. Chapter 15), the Administrative Committee of the Federal Register (Administrative Committee, Committee, ACFR, or we) is responsible for issuing regulations governing Federal Register publications. This includes establishing the number of official print copies of the Federal Register that can be distributed to Members of Congress, officers and employees of the United States, or Federal agencies (44 U.S.C. 1506). The ACFR sets out the number of official copies that Members of Congress and any other office of the United States are entitled to receive without charge in 1 CFR 12.1. This section also establishes how Federal offices of the United States request subscriptions to print copies of the Federal Register.

In January of 2018, the Federal Register Printing Savings Act of 2017 (Pub. L. 115-120) (the Act) updated 44 U.S.C. 1506 by changing subscription terms to yearly and placing other requirements on requests for official print copies of the Federal Register. Specifically, the Act prohibits the Government Publishing Office (GPO) from distributing the Federal Register without charge to Members of Congress or any other office of the United States unless they request a specific issue of the Federal Register or a subscription to the print edition of the Federal Register for that year. The Act also limits subscriptions to single-year terms. In addition, the Act requires the ACFR to issue regulations that notify Members of Congress and any other office of the United States of these restrictions and provide information on requesting official copies or subscriptions. We are proposing to revise 1 CFR 12.1 to meet the requirements of the Act by setting out how Members of Congress and any other office of the United States may request an official copy or a subscription to the print edition of the Federal Register.

Other Actions Taken To Implement the Act

Since the effective date of the Act, GPO has issued two Circular Letters related to its implementation. The first, GPO Circular Letter 1001, announced to official subscribers that GPO was creating a database to help implement the requirements of the Act (Gov't Publ'g Office, Circular Letter No. 1001 (2018), https://www.gpo.gov/how-to-work-with-us/agency/circular-letters/federal-register-printing-savings-act-of-2017). The second, GPO Circular Letter 1021, announced GPO's new online subscription portal for official distribution of the print edition of the Federal Register located at https://www.gpo.gov/frsubs (Gov't Publ'g Office, Circular Letter No. 1021 (2018), https://www.gpo.gov/how-to-work-with-us/agency/circular-letters/federal-register-printing-savings-act-of-2017-2). On the portal's form, an office of the United States may sign up for a yearly subscription to the print edition of the Federal Register, with an option for the delivery of multiple copies to the office. The subscription will be valid for one calendar year. GPO will send subscribers a reminder that they will need to sign up for the next calendar year if they wish to continue to receive print copies of the daily Federal Register. If official subscribers do not use the portal to sign up, they will not receive print copies of the Federal Register at the start of the new calendar year. Currently, the portal also provides Members of Congress and other offices of the United States an email address (FRsubs@gpo.gov) for requesting specific issues of the daily Federal Register. However, future versions of the portal's form will allow Members of Congress and other offices of the United States to request specific issues of the daily Federal Register, in addition to subscriptions, directly through the portal.

To highlight these developments, GPO placed a direct link to the subscription portal on its homepage menu (Who We Are>Our Agency>Official Federal Register Subscription Form). We will also provide updates on any changes to the official distribution of print copies of the Federal Register on www.federalregister.gov and in the front matter of Federal Register issues.

We are not proposing any changes to the process for requesting quantity overruns or extra copies. The paragraphs of § 12.1 governing those processes will be re-designated as paragraphs (d) through (f) instead of paragraphs (b) through (d), but the processes themselves will remain the same. We are also not proposing to change the paid subscription process in part 11. The Act did not affect the process for paid subscriptions, so this rule applies only to requests for distribution of the Federal Register without charge.

Regulatory Analysis

The Administrative Committee developed this proposed rule after considering numerous statutes and Executive orders related to rulemaking. Below is a summary of the Committee's determinations after analysis of these statutes and Executive orders with respect to this rulemaking.

Executive Orders 12866, 13563, and 13771

This proposed rule has been drafted in accordance with Executive Order 12866, section 1(b), “The Principles of Regulation,” and Executive Order 13563, “Improving Regulation and Regulatory Review.” The Administrative Committee has determined that this proposed rule is not a significant regulatory action as defined under section 3(f) of Executive Order 12866. Thus, this proposed rule has not been reviewed by the Office of Management and Budget (OMB), and it is exempt under OMB guidance from the requirements of Executive Order 13771 (see Office of Mgmt. & Budget, Guidance Implementing Executive Order 13771, Titled “Reducing Regulation and Controlling Regulatory Costs” (2017)).

Regulatory Flexibility Act

This proposed rule will not have a significant impact on small entities because it imposes no requirements on the public. Members of the public can access Federal Register publications for free through GPO's website, https://www.govinfo.gov/.

Federalism

This proposed rule has no federalism implications under Executive Order 13132. It does not impose compliance costs on state or local governments or preempt state law.

List of Subjects in 1 CFR Part 12

Code of Federal Regulations, Compilation of Presidential Documents, Federal Register, Government publications, Public papers of Presidents of U.S., U.S. Government Manual.

For the reasons discussed in the preamble, under the authority at 44 U.S.C. 1506, the Administrative Committee of the Federal Register proposes to amend 1 CFR part 12 as follows:

PART 12—OFFICIAL DISTRIBUTION WITHIN FEDERAL GOVERNMENT

1. The authority citation for part 12 continues to read as follows:

Authority: 44 U.S.C. 1506; sec. 6, E.O. 10530, 19 FR 2709; 3 CFR, 1954-1958 Comp., p. 189.

2. Amend § 12.1 by:

a. Revising paragraph (a),

b. Redesignating paragraphs (b) through (e) as (d) through (g), and

c. Adding new paragraphs (b) and (c).

The revision and additions read as follows:

§ 12.1 Federal Register.

(a) The Federal Register, issued under the authority of the Administrative Committee, is officially maintained online and is available on at least one Government Publishing Office website.

(b) Requests for subscriptions to the Federal Register may be made as follows:

(1) Requests from a Member of Congress or any other office of the United States for a specific issue or a subscription may be submitted via a Government Publishing Office website or by email to an email address provided on that website.

(2) Official subscription requests:

(i) May be made in the current year for that year or for the upcoming year,

(ii) Will expire at the end of each calendar year, and

(iii) Will not automatically continue into a new calendar year.

(c) Notifications regarding procedures for requesting official copies of specific issues or print subscriptions are available:

(1) On a Government Publishing Office website dedicated to official subscriptions,

(2) On www.federalregister.gov, and

(3) In the front matter of the Federal Register, which is the text that precedes the main text of the daily issue of the Federal Register.

* * * * *

Oliver A. Potts,
Secretary, Administrative Committee of the Federal Register.

[FR Doc. 2020-28663 Filed 12-29-20; 8:45 am]

BILLING CODE 1301-00-P